DEPARTMENT OF COMMERCE

Bureau of Industry and Security

[Docket No. 210325-0067]

RIN 0694-XC075

Virtual Forum for Risks in the Semiconductor Manufacturing and Advanced Packaging Supply Chain

AGENCY: Bureau of Industry and Security, Office of Technology Evaluation, U.S. Department of Commerce.

ACTION: Notice of virtual forum.

SUMMARY: On February 24, 2021, President Biden issued the Executive Order on “America's Supply Chains,” which directs several Federal agency actions to secure and strengthen America's supply chains. One of these directions is for the Secretary of Commerce to submit, within 100 days, a report to the President identifying risks in the semiconductor manufacturing and advanced packaging supply chains, and proposing policy recommendations to address these risks. Additionally, the National Defense Authorization Act of 2021 includes a title for “Creating Helpful Incentives to Produce Semiconductors for America” that mandates several Federal actions in securing the semiconductor-related supply chain. On March 15, 2021, the Bureau of Industry and Security (BIS) published a notice of request for public comments, Risks in the Semiconductor Manufacturing and Advanced Packaging Supply Chain (March 15 notice). The March 15 notice requests written comments and information from the public to assist the Department of Commerce in preparing the report required by the Executive Order with written comments due by April 5, 2021. BIS is publishing today's notice to announce a virtual forum that will occur on April 8, 2021, that will allow participants to orally address the policy objectives listed in the Executive Order as they affect the U.S. semiconductor manufacturing and advanced packaging supply chains, including but not limited to the elements included in the March 15 notice. Today's notice sets forth the procedures for public participation in the virtual forum.

DATES:

Virtual forum: The virtual forum will be held on April 8, 2021. The virtual forum will begin at 2:00 p.m. Eastern Daylight Time (EDT) and conclude at 5:00 p.m. EDT.

Registration for the virtual forum: Requests to register for the virtual forum, including requests to make a presentation, must be submitted by 5:00 p.m. EDT on April 1, 2021. See the ADDRESSES section of this notice. Registration for the virtual forum will open on March 26, 2021.

Confirmation of registration and/or speaking slot: The Department will contact each person that has been confirmed to provide oral comments in the virtual forum by email no later than 12:00 p.m. EDT on April 5, 2021.

ADDRESSES: BIS has created a web page on the BIS website for the virtual forum. This web page will be used by the public to register for the virtual forum, including submitting requests to speak at the virtual forum. The landing page for the virtual forum will be accessed through this web page on https://www.bis.doc.gov/semiconductorforum .

Click on the link for `Register for the Virtual Forum' on this web page to register for the virtual forum. People interested in providing oral comments during the virtual forum should make this request when registering for the virtual forum, including submitting a brief overview of their remarks.

After registration is completed by the Department, this web page will include the agenda and the list of the scheduled speakers for the virtual forum. Once a person's registration has been accepted by BIS, the person will receive an email notification from BIS with information needed to access the virtual forum. Registrants that requested to provide oral comments at the virtual forum will be notified by email if their request has been accepted and will be provided the allotted amount of time for their speaking at the virtual forum. People not selected to make a presentation may provide written comments and submit those in response to the March 15 notice by the comment deadline of April 5, 2021. See the March 15 notice for instructions on submitting written comments. Participants should be prepared to attend the forum in its entirety as allotted speaker time slots are subject to change and the program will continue if a speaker is not available when called to speak. Within 7 business days after the virtual forum is completed, BIS will add a link to a recording of the virtual forum and a written transcript to make the recording physically accessible to people with disabilities.

FOR FURTHER INFORMATION CONTACT: Erika Maynard, Defense Industrial Base Division, Office of Technology Evaluation, Bureau of Industry and Security, at 202-482-5572 or Semiconductorstudy@bis.doc.gov .

SUPPLEMENTARY INFORMATION:

Background

On February 24, 2021, President Biden issued Executive Order 14017, “America's Supply Chains” (86 FR 11849) (E.O. 14017). E.O. 14017 focuses on the need for resilient, diverse, and secure supply chains to ensure U.S. economic prosperity and national security. Such supply chains are needed to address conditions that can reduce U.S.' critical manufacturing capacity, as well as the availability and integrity of critical goods, products, and services. In relevant part, E.O. 14017 directs that within 100 days, the Secretary of Commerce (Secretary) shall submit a report to the President, through the Assistant to the President for National Security Affairs (APNSA) and the Assistant to the President for Economic Policy (APEP), identifying the risks in the semiconductor manufacturing and advanced packaging supply chains, and proposing policy recommendations to address these risks.

Additionally, Title XCIX of the National Defense Authorization Act of 2021 (FY21 NDAA), “Creating Helpful Incentives to Produce Semiconductors for America,” mandates several Federal actions to secure the security of the semiconductor-related supply chain. Section 9904 of the FY21 NDAA (“Department of Commerce Study on Status of Microelectronics Technologies in the United States”) requires the Secretary to assess the capabilities of the U.S. microelectronics industrial base to support the national defense, in light of the global nature and interdependence of the supply chain with respect to manufacture, design, and end use. The Secretary must submit a report to Congress that includes a list of critical technology areas impacted by potential disruptions in the production of microelectronics and an assessment of gaps and vulnerabilities in the microelectronics supply chain.

On March 15, 2021, BIS published a notice of request for public comments, Risks in the Semiconductor Manufacturing and Advanced Packaging Supply Chain (86 FR 14308) (the March 15 notice). The March 15 notice requests comments and information from the public to assist the Department of Commerce (Department) in preparing the report required by E.O. 14017. In developing this report, the Secretary will consult with the heads of appropriate agencies and will be advised by all relevant bureaus and components of the Department including, but not limited to, BIS and the International Trade Administration. After that report is completed, the Department will assess whether additional information will be needed to conduct the assessment required by Section 9904 of the FY21 NDAA.

BIS is publishing today's notice to announce a virtual forum that will occur on April 8, 2021 that will allow commenters to address the policy objectives listed in E.O. 14017 as they affect the U.S. semiconductor manufacturing and advanced packaging supply chains including, but not limited to, the elements included in the March 15 notice. This notice sets forth the procedures for public participation in the virtual forum.

Virtual Forum

Consistent with the interest of the Department in soliciting public comments on issues affecting risks in the semiconductor manufacturing and advanced packaging supply chain as described in the March 15 notice, the Department is holding a virtual forum. The virtual forum will assist the Department in preparing the report required by E.O. 14017. Public comments at the virtual forum should address the policy objectives listed in E.O. 14017 as they affect the U.S. semiconductor manufacturing and advanced packaging supply chains, including but not limited to the elements identified in the March 15 notice. See the March 15 notice for the elements and E.O. 14017. The virtual forum will be held on April 8, 2021. The forum will begin at 2:00 p.m. EDT and conclude at 5:00 p.m. EDT.

Procedure for Requesting Participation

See the ADDRESSES section of this notice for how to register and access the virtual forum. The Department encourages interested public participants to present their views orally at the virtual forum. Any person wishing to make an oral presentation at the virtual forum must register with the Department at the Web address indicated in the ADDRESSES section of this notice. The request to speak in the virtual forum must be accompanied by an overview of the oral presentation. Speakers' registration, including overviews of written remarks, must be received by the Department no later than 5:00 p.m. EDT on April 1, 2021. BIS will not accept any registrations after that time for the virtual forum.

Please note that the submission of overviews of presentations at the virtual forum is separate from the request for written comments described in March 15 notice. Since it may be necessary to limit the number of persons making presentations, the overview should describe the individual's interest in the virtual forum and, where appropriate, explain why the individual is a proper representative of a group or class of persons that has such an interest. If all interested parties cannot be accommodated at the virtual forum, the overviews of the oral presentations will be used to allocate speaking time and to ensure that a full range of comments is heard.

Each person selected to make a presentation will be notified by the Department no later than 12:00 p.m. EDT on April 5, 2021. The Department will arrange the presentation times for the speakers. Representatives from the Department and other U.S. Government agencies, as appropriate, will make up the virtual forum panel. Written overview submissions by persons not selected to make presentations will be made part of the public record of the proceeding, as well as the overview submission of those persons selected to make presentations. Confidential business information may not be submitted at a virtual forum. The virtual forum will be recorded.

Copies of the requests to speak at the virtual forum and the transcript of the forum will be maintained on BIS's web page, which can be found at http://www.bis.doc.gov (see Freedom of Information Act link at the bottom of the page) and at https://www.bis.doc.gov/semiconductorforum . These documents will also be posted through the Federal eRulemaking Portal: http://www.regulations.gov under docket number BIS-2021-0011, which is the docket number for the May 15 notice. If the requesters cannot access the website, they may call (202) 482-0795 for assistance. The records related to this assessment are made accessible in accordance with the regulations published in part 4 of title 15 of the Code of Federal Regulations (15 CFR 4.1 et seq.).

Conduct of the Virtual Forum

The Department reserves the right to select the persons to be heard at the virtual forum, to schedule their respective presentations, and to establish the procedures governing the conduct of the virtual forum. Each speaker will be limited to a time set by the Department and comments must be directly related to the policy objectives listed in E.O. 14017 as they affect the U.S. semiconductor manufacturing and advanced packaging supply chains, including but not limited to the elements included in the March 15 notice.

A Department official will be designated to preside at the virtual forum. The presiding officer shall determine all procedural matters during the virtual forum. Representatives from the Department, and other U.S. Government agencies, as appropriate, will make up the virtual forum panel. This will be a fact-finding proceeding. It will not be a judicial or evidentiary-type virtual forum. Only members of the virtual forum panel may ask questions and there will be no cross-examination of persons presenting statements. No formal rules of evidence will apply to the virtual forum. Any further procedural rules for the proper conduct of the virtual forum will be announced by the presiding officer.

Special Accommodations

This virtual forum is physically accessible to people with disabilities. See the ADDRESSES section of this notice.

Matthew S. Borman,
Deputy Assistant Secretary for Export Administration.

[FR Doc. 2021-06579 Filed 3-26-21; 4:15 pm]

BILLING CODE 3510-33-P